ENVIRONMENTAL PROTECTION AGENCY

[FRL-7488-6]

Clean Water Act Section 303(d): Final Agency Action on 12 Modified Total Maximum Daily Loads (TMDLs)

AGENCY: Environmental Protection Agency (EPA).

ACTION: Notice of availability.

SUMMARY: This notice announces final agency action modifying 12 established TMDLs prepared by EPA Region 6 for waters listed in Louisiana's Mermentau and Vermilion/Teche river basins, under section 303(d) of the Clean Water Act (CWA). The EPA evaluated these waters and prepared the 12 TMDLs in response to a consent decree entered in the lawsuit Sierra Club, et al. v. Clifford et al., No. 96-0527, (E.D. La.). Documents from the administrative record files for the 12 modified TMDLs, including TMDL calculations and responses to comments, may be viewed at http://www.epa.gov/region6/water/tmdl.htm.

ADDRESSES: The administrative record files may be obtained by writing or calling Ms. Ellen Caldwell, Environmental Protection Specialist, Water Quality Protection Division, U.S. Environmental Protection Agency Region 6, 1445 Ross Ave., Dallas, TX 75202-2733. Please contact Ms. Caldwell to schedule an inspection.

FOR FURTHER INFORMATION CONTACT: Ellen Caldwell at (214) 665-7513.

SUPPLEMENTARY INFORMATION: In 1996, two Louisiana environmental groups, the Sierra Club and Louisiana Environmental Action Network (plaintiffs), filed a lawsuit in Federal Court against the EPA, styled Sierra Club, et al. v. Clifford et al., No. 96-0527, (E.D. La.). Among other claims, plaintiffs alleged that EPA failed to establish Louisiana TMDLs in a timely manner.

EPA Takes Final Agency Action on 12 Modified TMDLs

By this notice EPA is taking final agency action modifying the following 12 TMDLs for waters located within the Mermentau and Vermilion/Teche river basins:

Subsegment | Waterbody name | Pollutant
050102 | Bayou Joe Marcel | Pathogen indicators
060204 | Bayou Courtableau—Origin to West Atchafalaya Borrow Pit Canal | Pathogen indicators
060212 | Chatlin Lake Canal and Bayou Dulac | Pathogen indicators
060701 | Tete Bayou | Pathogen indicators
060703 | Bayou Portage | Pathogen indicators
060901 | Bayou Petite Anse | Pathogen indicators
060909 | Lake Peigneur | Pathogen indicators
060911 | Dugas Canal | Pathogen indicators
060204 | Bayou Courtableau—Origin to West Atchafalaya Borrow Pit Canal | Sulfates
050201 | Bayou Plaquemine Brule—Headwaters to Bayou Des Cannes | TDS
050501 | Bayou Queue de Tortue—Headwaters to Mermentau River | TDS
060208 | Bayou Boeuf—Headwaters to Bayou Courtableau | TDS

EPA requested the public to provide EPA with any significant data or information that may impact the 12 modified TMDLs in 67 FR 77257 (December 17, 2002). The comments received and EPA's response to comments may be found at http://www.epa.gov/region6/water/tmdl.htm.

Dated: April 17, 2003.
Miguel I. Flores,
Director, Water Quality Protection Division, Region 6.

[FR Doc. 03-10270 Filed 4-24-03; 8:45 am]

BILLING CODE 6560-50-P